FEDERAL COMMUNICATIONS COMMISSION

47 CFR Parts 1 and 17

[WT Docket No. 08-61; WT Docket No. 03-187; DA 10-2178]

Federal Communications Commission Announces Public Meetings and Invites Comment on the Environmental Effects of Its Antenna Structure Registration Program

AGENCY: Federal Communications Commission.

ACTION: Proposed rule.

SUMMARY: In this document, the Federal Communications Commission announces public meetings regarding the pending Programmatic Environmental Assessment (PEA) of its Antenna Structure Registration (ASR) program and invites comment on the environmental effects of its antenna structure registration program.

DATES: Interested parties may file comments on or before January 14, 2011.

ADDRESSES: You may submit comments, identified by DA 10-2178, WT Docket No. 08-61 and WT Docket No. 03-187, by any of the following methods:

■ Federal eRulemaking Portal: http://www.regulations.gov. Follow the instructions for submitting comments.

■ Federal Communications Commission's Web site: http://www.fcc.gov/cgb/ecfs/ or through a link on the PEA Web site, http://wireless.fcc.gov/antenna/index.htm?job=programmatic_environmental_assessment. Follow the instructions for submitting comments.

■ Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

■ People With Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Aaron Goldschmidt, Wireless Telecommunications Bureau, (202) 418-7146, e-mail aaron.goldschmidt@fcc.gov.

SUPPLEMENTARY INFORMATION: This is a summary of the Federal Communications Commission's public notice released on November 12, 2010. The full text of the public notice is available for public inspection and copying during business hours in the FCC Reference Information Center, Portals II, 445 12th Street, SW., Room CY-A257, Washington, DC 20554. It may also be purchased from the Commission's duplicating contractor at Portals II, 445 12th Street, SW., Room CY-B402, Washington, DC 20554; the contractor's Web site, http://www.bcpiweb.com; or by calling (800) 378-3160, facsimile (202) 488-5563, or e-mail FCC@BCPIWEB.com. Copies of the public notice also may be obtained via the Commission's Electronic Comment Filing System (ECFS) by entering the docket number, WT Docket No. 07-250. Additionally, the complete public notice is available on the Federal Communications Commission's Web site at http://www.fcc.gov.

To comply with its obligations under the National Environmental Policy Act (NEPA), the Federal Communications Commission is conducting a Programmatic Environmental Assessment (PEA) of its Antenna Structure Registration (ASR) program. The purpose of the PEA is to evaluate the potential environmental effects of the Commission's ASR program. The Commission is undertaking the PEA in response to the determination of the Court of Appeals for the District of Columbia Circuit in American Bird Conservancy v. FCC, (516 F.3d 1027 (D.C. Cir. 2008) that registered towers may have a significant environmental effect on migratory birds. In the course of the PEA, the Commission will consider alternatives to address potential environmental effects, and will determine whether a more extensive analysis, in the form of a programmatic Environmental Impact Statement, may be required under NEPA.

Under the ASR program, owners of antenna structures that are taller than 200 feet above ground level or that may interfere with the flight path of a nearby airport must register those structures with the FCC. The antenna structure owner must obtain painting and lighting specifications from the Federal Aviation Administration and include those specifications in its registration prior to construction. The ASR program allows the FCC to fulfill its statutory responsibility to require painting and lighting of antenna structures that may pose a hazard to air navigation.

The FCC has established a Web site, http://wireless.fcc.gov/antenna/index.htm?job=programmatic_environmental_assessment, which contains information and downloadable documents. The Web site also allows individuals to contact the Commission, and will be updated at key milestones throughout the study.

The FCC will hold three scoping meetings for the public to provide input to the PEA process. The meetings will be open to the public; however, admittance will be limited to the seating available. Each scoping meeting will be comprised of an Information Session, a Presentation and a Formal Comment Period. Comment forms will be available, and may either be completed at the meeting, submitted through the PEA Web site, or mailed. Formal verbal comments will also be transcribed for public record by a stenographer at the meetings. PEA informational materials will be available at the meetings. Information gathered at the meetings will be used to prepare the PEA. The meetings are scheduled as follows:

• On December 6, 2010, from 1:30 p.m. until 4:30 p.m. Eastern Time, at the Federal Communications Commission's Meeting Room, 445 12th Street, SW., Washington, DC. Audio/video coverage of this meeting will be broadcast live with open captioning over the Internet from the FCC's Web page at http://www.fcc.gov/live. The FCC's webcast is free to the public. Those who watch the live video stream of the event may email event-related questions to livequestions@fcc.gov. Depending on the volume of questions and time constraints, FCC representatives will respond to as many questions as possible during the workshop.

• On December 13, 2010, from 6 p.m. until 8:30 p.m. Pacific Time, at the Council Chambers, City of Chula Vista Civic Center, 276 Fourth Avenue, Chula Vista, California.

• On December 15, 2010, from 6 p.m. until 8:30 p.m. Eastern Time, at the John F. Germany Public Library, 900 North Ashley Drive, Tampa, Florida.

Individuals requiring special assistance during a meeting should submit a request through the PEA Web site no later than two business days prior to the applicable meeting.

In addition to the scoping meetings, the Commission seeks written comments to assist it in preparing the PEA. Interested parties may file comments on or before January 14, 2011. Comments may be filed: (1) Electronically, (2) in person at one of the scoping meetings, or (3) through the use of paper copies.

• Electronic Filers: Comments may be filed electronically using the Internet by accessing the Commission's Electronic Comment Filing System (“ECFS”): http://www.fcc.gov/cgb/ecfs/, through a link on the PEA Web site, http://wireless.fcc.gov/antenna/index.htm?job=programmatic_environmental_assessment, or via the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

○ All hand-delivered or messenger-delivered paper filings for the Commission's Secretary must be delivered to FCC Headquarters at 445 12th St., SW., Room TW-A325, Washington, DC 20554. All hand deliveries must be held together with rubber bands or fasteners. Any envelopes must be disposed of before entering the building. The filing hours are 8 a.m. to 7 p.m.

○ Commercial overnight mail (other than U.S. Postal Service Express Mail and Priority Mail) must be sent to 9300 East Hampton Drive, Capitol Heights, MD 20743.

○ U.S. Postal Service first-class, Express, and Priority mail must be addressed to 445 12th Street, SW., Washington, DC 20554.

Comments and ex parte submissions will be available for public inspection during regular business hours in the FCC Reference Center, Federal Communications Commission, 445 12th Street, SW., CY-A257, Washington, DC 20554. These documents will also be available via ECFS. Documents will be available electronically in ASCII, Microsoft Word, and/or Adobe Acrobat.

To request information in accessible formats (computer diskettes, large print, audio recording, and Braille), send an e-mail to fcc504@fcc.gov or call the FCC's Consumer and Governmental Affairs Bureau at (202) 418-0530 (voice), (202) 418-0432 (TTY). This document can also be downloaded in Word and Portable Document Format (PDF) at: http://www.fcc.gov.

For more news and information about the Federal Communications Commission please visit: http://www.fcc.gov.

Federal Communications Commission.
Jane E. Jackson,
Associate Chief, Wireless Telecommunications Bureau.

[FR Doc. 2010-29005 Filed 11-16-10; 8:45 am]

BILLING CODE 6712-01-P